DEPARTMENT OF COMMERCE

National Oceanic and Atmospheric Administration

Proposed Information Collection; Comment Request; Southeast Region Gulf of Mexico Mandatory Shrimp Vessel and Gear Characterization Survey

AGENCY: National Marine Fisheries Service (NMFS), National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted by January 13, 2020.

ADDRESSES: Direct all written comments to Adrienne Thomas, PRA Officer, NOAA, 151 Patton Avenue, Room 159, Asheville, NC 28801 (or via the internet at PRAcomments@doc.gov). All comments received are part of the public record. Comments will generally be posted without change. All Personally Identifiable Information (for example, name and address) voluntarily submitted by the commenter may be publicly accessible. Do not submit Confidential Business Information or otherwise sensitive or protected information.

FOR FURTHER INFORMATION CONTACT: Requests for additional information or copies of the information collection instrument and instructions should be directed to Adam Bailey, National Marine Fisheries Service, Southeast Regional Office, Sustainable Fisheries Division, 263 13th Ave. S, St. Petersburg, FL 33701, telephone: 727-824-8305, email: adam.bailey@noaa.gov.

SUPPLEMENTARY INFORMATION:

I. Abstract

This request is for the renewal of a current information collection.

The Magnuson-Stevens Fishery Conservation and Management Act (Magnuson-Stevens Act) authorizes the Gulf of Mexico Fishery Management Council (Council) to prepare and amend fishery management plans (FMPs) for any fishery in Federal waters under its jurisdiction. NMFS and the Council manage the commercial shrimp fishery in Federal waters of the Gulf of Mexico (Gulf) under the FMP for the Shrimp Fishery of the Gulf.

Owners or operators of vessels applying for or renewing a commercial vessel permit for the Gulf shrimp fishery must complete an annual Gulf Shrimp Vessel and Gear Characterization Form. NMFS provides the form to each permit holder in January each year, and the form is due to NMFS prior to the submission of a permit application for renewal or transfer. Compliance with this reporting requirement is required for permit issuance and renewal. The regulations for the Gulf Shrimp Vessel and Gear Characterization Form may be found at 50 CFR 622.51(a)(3).

Through this form, NMFS collects census-level information on fishing vessel and gear characteristics in the Gulf shrimp fishery to conduct analyses that will improve management decision-making in this fishery. In addition, these analyses ensure that national goals, objectives, and requirements of the Magnuson-Stevens Act, National Environmental Policy Act, Regulatory Flexibility Act, Endangered Species Act, and Executive Order 12866 are met; and quantify achievement of the performance measures in the NMFS' Operating Plans. This information is vital in assessing the economic, social, and environmental effects of fishery management decisions and regulations on individual shrimp fishing enterprises, fishing communities, and the nation as a whole.

There have been minor adjustments to responses and burden. As of August 29, 2019, there are approximately 1,410 vessels with valid or renewable permits in the Gulf shrimp fishery. The slightly fewer number of vessels has resulted in adjusted estimates of total burden hours and costs as noted below in Section III.

II. Method of Collection

NMFS mails a paper copy of the form to respondents and also provides a pre-paid business reply envelope for permit applicants to submit the form. Permit applicants must complete and mail the form back to NMFS before a permit expires and before NMFS will issue or transfer a permit.

III. Data

OMB Control Number: 0648-0542.

Form Number(s): None.

Type of Review: Regular submission—extension of a current information collection.

Affected Public: Business or other for-profit organizations.

Estimated Number of Respondents: 1,410.

Estimated Time per Response: 20 minutes.

Estimated Total Annual Burden Hours: 470.

Estimated Total Annual Cost to Public: $0 in recordkeeping or reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-24582 Filed 11-8-19; 8:45 am]

BILLING CODE 3510-22-P